DEPARTMENT OF COMMERCE

International Trade Administration

[A-570-932]

Certain Steel Threaded Rod From the People's Republic of China: Preliminary Results of the Antidumping Duty Administrative Review and Rescission of Antidumping Duty Administrative Review, in Part; 2016-2017

AGENCY: Enforcement and Compliance, International Trade Administration, Department of Commerce.

SUMMARY: The Department of Commerce (Commerce) preliminarily determines that Fastenal Canada Ltd. (Fastenal Canada) did not cooperate to the best of its ability and has based its margin on adverse facts available (AFA), and that RMB Fasteners Ltd. and IFI & Morgan Ltd. (RMB/IFI) did not have any reviewable transactions during the POR.

DATES: Applicable May 17, 2018.

FOR FURTHER INFORMATION CONTACT: Paul Walker, AD/CVD Operations, Office V, Enforcement and Compliance, International Trade Administration, U.S. Department of Commerce, 1401 Constitution Avenue NW, Washington, DC 20230; telephone: 202.482.0413.

SUPPLEMENTARY INFORMATION:

Background

On June 7, 2016, Commerce published the Initiation Notice of the eighth administrative review of the antidumping duty (AD) order on steel threaded rod (STR) from China.¹ The period of review (POR) is April 1, 2016, through March 31, 2017. On September 26, 2017, we issued the AD questionnaire to RMB/IFI ² and Fastenal Canada.³ On October 5, 2017, Fastenal Canada stated it would not participate in this administrative review.⁴ On October 13, 2017, RMB/IFI indicated it would have difficulty responding to the original questionnaire, and provided information demonstrating that it did not have sales of subject merchandise to the United States during the POR.⁵ On January 23, 2018, Commerce exercised its discretion to toll all deadlines affected by the closure of the Federal Government from January 20 through 22, 2018.⁶ RMB/IFI responded to Commerce's supplemental questionnaires between February 9 and February 15, 2018.⁷

¹ See Initiation of Antidumping and Countervailing Duty Administrative Reviews, 82 FR 26444, 26448-50 (June 7, 2017) (Initiation Notice).

² Commerce determined that these companies constituted a single entity in the investigation on steel threaded rod from China. See Certain Steel Threaded Rod from the People's Republic of China: Preliminary Determination of Sales at Less Than Fair Value, 73 FR 58931 (October 8, 2008), unchanged in Certain Steel Threaded Rod from the People's Republic of China: Final Determination of Sales at Less Than Fair Value, 74 FR 8907 (February 27, 2009) (Final Determination). We have received no information in this review to call into question that finding.

³ See Commerce's letter to Fastenal Canada, dated September 26, 2017; Commerce's letter to RMB/IFI, dated September 26, 2017.

⁴ See Memo to the File, dated October 21, 2017, containing the Letter from Fastenal Canada, dated October 5, 2017.

⁵ See RMB/IFI's October 13, 2017, submission.

⁶ See Memorandum for The Record from Christian Marsh, Deputy Assistant Secretary for Enforcement and Compliance, “Deadlines Affected by the Shutdown of the Federal Government,” dated January 23, 2018. All deadlines in this segment of the proceeding have been extended by 3 days.

⁷ See RMB/IFI's February 9 and February 15, 2018, submission.

Scope of the Order

The merchandise covered by the order includes steel threaded rod. The subject merchandise is currently classifiable under subheading 7318.15.5051, 7318.15.5056, 7318.15.5090, and 7318.15.2095 of the United States Harmonized Tariff Schedule (HTSUS). Although the HTSUS subheading is provided for convenience and customs purposes, the written description of the merchandise is dispositive.⁸

⁸ For a full description of the scope of the Order, see Memorandum from James Maeder, Associate Deputy Assistant Secretary, to Gary Taverman, Deputy Assistant Secretary for Enforcement and Compliance, “Certain Steel Threaded Rod from the People's Republic of China: Decision Memorandum for the Preliminary Results of the 2016-2017 Antidumping Duty Administrative Review” (Preliminary Decision Memo), dated concurrently with this notice.

Rescission of Review, In Part

Pursuant to 19 CFR 351.213(d)(1), Commerce will rescind an administrative review, “in whole or in part, if a party that requested a review withdraws the request within 90 days of the date of publication of notice of initiation of the requested review.” The petitioner, the only interested party to request an administrative review of any companies, timely withdrew its review requests with respect to 168 companies.⁹ As such, we are rescinding the administrative review with respect to all companies except Jiaxing Brother Standard Part Co., Ltd., RMB/IFI, Brother Holding Group Co. Ltd., Zhejiang Morgan Brother Technology Co. Ltd., and Fastenal Canada, in accordance with 19 CFR 351.213(d)(1).

⁹ See Appendix II.

No Shipments

On July 7, 2017, RMB/IFI filed a no-shipment certification, indicating that it did not export subject merchandise to the United States during the POR. During the course of this review, Commerce examined this no shipments claim and provides its analysis in the Preliminary Decision Memo. Based on the record evidence, we preliminarily determine that RMB/IFI did not have any reviewable transactions during the POR. In addition, we find that it is appropriate not to rescind the review, in part, in this circumstance, and to complete the review with respect to the above-named company, issuing appropriate instructions to U.S. Customs and Border Protection (CBP) based on the final results of the review.¹⁰ Should evidence contrary to RMB/IFI's no-shipments claims arise, we will address the issue in accordance with our governing statute and regulations.

¹⁰ See Non-Market Economy Antidumping Proceedings: Assessment of Antidumping Duties, 76 FR 65694, 65694-65695 (October 24, 2011).

Methodology

Commerce is conducting this review in accordance with sections 751(a)(1)(B) and 751(a)(2)(A) of the Tariff Act of 1930, as amended (the Act). With respect to Fastenal Canada, because it did not respond to Commerce's requests for information, we relied on facts available, in accordance with section 776(a) of the Act. Further, because we find that Fastenal Canada did not act to the best of its ability, we drew an adverse inference in selecting from among the facts otherwise available, in accordance with section 776(b) of the Act. In addition, because Jiaxing Brother Standard Part Co., Ltd., Brother Holding Group Co. Ltd. and Zhejiang Morgan Brother Technology Co. Ltd. did not submit a separate rate application or certification, we preliminarily find that these companies have not demonstrated eligibility for separate rates, and accordingly, we are preliminarily assigning these companies the China-wide entity rate of 206.00 percent. For a full description of the methodology underlying our preliminary conclusions, see the Preliminary Decision Memo.

For a complete description of the events that followed the initiation of this review, see the Preliminary Decision Memo. A list of topics included in the Preliminary Decision Memo is included as Appendix I to this notice. The Preliminary Decision Memo is a public document and is on file electronically via Enforcement and Compliance's Antidumping and Countervailing Duty Centralized Electronic Service System (ACCESS). ACCESS is available to registered users at https://access.trade.gov, and to all parties in the Central Records Unit, room B8024 of the main Commerce building. In addition, a complete version of the Preliminary Decision Memo can be accessed directly at http://enforcement.trade.gov/frn/. The signed and the electronic versions of the Preliminary Decision Memo are identical in content.

Preliminary Results of Review

Commerce preliminarily determines that a dumping margin of 206.00 percent exists for Fastenal Canada for the period April 1, 2016, through March 31, 2017.

Public Comment

Case briefs or other written comments may be submitted to the Assistant Secretary for Enforcement and Compliance no later than 30 days after the date of publication of the preliminary results, unless the Secretary alters the time limit. Rebuttal briefs, limited to issues raised in case briefs, may be submitted no later than five days after the deadline date for case briefs.¹¹ Pursuant to 19 CFR 351.309(c)(2) and (d)(2), parties who submit case briefs or rebuttal briefs in this investigation are encouraged to submit with each argument: (1) A statement of the issue; (2) a brief summary of the argument; and (3) a table of authorities.

¹¹ See 19 CFR 351.309; see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC 20230, at a time and date to be determined. Parties should confirm by telephone the date, time, and location of the hearing two days before the scheduled date.

Commerce intends to issue the final results of this administrative review, which will include the results of our analysis of all issues raised in the case briefs, within 120 days of publication of these preliminary results in the Federal Register, pursuant to section 751(a)(3)(A) of the Act.

Assessment Rates

Upon issuance of the final results, Commerce will determine, and U.S. Customs and Border Protection (CBP) shall assess, antidumping duties on all appropriate entries covered by this review.¹² Commerce intends to issue assessment instructions to CBP 15 days after the publication date of the final results of this review. We will instruct CBP to assess duties at the ad valorem margin rate published above. We will instruct CBP to assess antidumping duties on all appropriate entries covered by this review if any assessment rate calculated in the final results of this review is above de minimis. In addition, for any exporter under review which Commerce determines had no shipments of the subject merchandise, any suspended entries that entered under that exporter's case number (i.e., at that exporter's rate) will be liquidated at the China-wide rate. ¹³ The final results of this review shall be the basis for the assessment of antidumping duties on entries of merchandise covered by the final results of this review and for future deposits of estimated duties, where applicable. Commerce will assess duties only on entries of subject merchandise (i.e., Chinese-origin STR).

¹² See 19 CFR 351.212(b)(1).

¹³ For a full discussion of this practice, see Non-Market Economy Antidumping Proceedings: Assessment of Antidumping Duties, 76 FR 65694 (October 24, 2011).

Cash Deposit Requirements

The following cash deposit requirements will be effective upon publication of the final results of this administrative review for shipments of the subject merchandise from China entered, or withdrawn from warehouse, for consumption on or after the publication date, as provided by section 751(a)(2)(C) of the Act: (1) For Fastenal Canada, the cash deposit rate will be that established in the final results of this review (except, if the rate is zero or de minimis, then zero cash deposit will be required) and Commerce will collect cash deposits only on Fastenal Canada's Chinese-origin merchandise; (2) for previously investigated or reviewed Chinese and non-Chinese exporters not listed above that received a separate rate in a prior segment of this proceeding, the cash deposit rate will continue to be the existing exporter-specific rate published for the most recently completed period; (3) for all Chinese exporters of subject merchandise that have not been found to be entitled to a separate rate, the cash deposit rate will be the China-wide rate of 206.00 percent; and (4) for all non-Chinese exporters of subject merchandise which have not received their own rate, the cash deposit rate will be the rate applicable to the Chinese exporter that supplied that non-Chinese exporter. These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

These preliminary results are issued and published in accordance with sections 751(a)(1) and 777(i)(1) of the Act.

Dated: May 3, 2018.
Gary Taverman,
Deputy Assistant Secretary for Antidumping and Countervailing Duty Operations, performing the non-exclusive functions and duties of the Assistant Secretary for Enforcement and Compliance.

Appendix I

List of Topics Discussed in the Preliminary Decision Memo:

Summary

1. Background

2. Scope of the Order

Discussion of the Methodology

1. Partial Rescission

2. Facts Otherwise Available

3. No Shipments

4. NME Country Status

5. Separate Rates

6. Companies Considered as Part of the China-Wide Entity

Recommendation

Appendix II

The 168 Companies for which Commerce is rescinding the review:

1. Aerospace Precision Corp. (Shanghai) Industry Co., Ltd.

2. Aihua Holding Group Co. Ltd.

3. Autocraft Industry Ltd.

4. Autocraft Industry (Shanghai) Ltd.

5. Billion Land Ltd.

6. Billion Technology Ltd.

7. Bolt Mfg. Trade Ltd.

8. Billiongold Hardware Co. Ltd.

9. Brighton Best International (Taiwan) Inc.

10. C and H International Corporation

11. Catic Fujian Co., Ltd.

12. Cci International Ltd.

13. Century Distribution Systems Inc.

14. Certified Products International Inc.

15. Changshu City Standard Parts Factory

16. China Friendly Nation Hardware Technology Limited

17. D.M.D. International Co. Ltd.

18. Da Cheng Hardware Products Co., Ltd.

19. Dalian Xingxin Steel Fabrication

20. Dongxiang Accuracy Hardware Co., Ltd.

21. Ec International (Nantong) Co., Ltd

22. Fastco (Shanghai) Trading Co., Ltd.

23. Fasten International Co., Ltd.

24. Fastwell Industry Co. Ltd.

25. Fook Shing Bolts & Nuts Co. Ltd.

26. Fuda Xiongzhen Machinery Co., Ltd.

27. Fuller Shanghai Co. Ltd.

28. Gem-Year Industrial Co. Ltd.

29. Guangdong Honjinn Metal & Plastic Co., Ltd.

30. Hainan Zhongyan United Development Co.

31. Haining Hifasters Industrial Co.

32. Haining Shende Imp. & Exp. Co. Ltd.

33. Hainan Zhongda Fastener Co., Ltd.

34. Haiyan Ai&Lun Standard Fastener Co.

35. Haiyan Chaoqiang Standard Fastener

36. Haiyan Dayu Fasterners Co., Ltd.

37. Haiyan Evergreen Standard Parts Co. Ltd.

38. Haiyan Fuxin High Strength Fastener

39. Haiyan Hatehui Machinery Hardware

40. Haiyan Hurras Import & Export Co. Ltd.

41. Haiyan Jianhe Hardward Co. Ltd.

42. Haiyan Julong Standard Part Co. Ltd.

43. Haiyan Shangchen Imp. & Exp. Co.

44. Haiyan Yuxing Nuts Co. Ltd.

45. Hangzhou Everbright Imp. & Exp. Co. Ltd.

46. Hangzhou Grand Imp. & Exp. Co., Ltd.

47. Hangzhou Great Imp. & Exp. Co. Ltd.

48. Hangzhou Lizhan Hardware Co. Ltd.

49. Hangzhou Prostar Enterprises Ltd.

50. Hangzhou Tongwang Machinery Co., Ltd.

51. Hilti (China) Ltd.

52. Hong Kong Sunrise Fasteners Co. Ltd.

53. Hong Kong Yichen Co. Ltd.

54. Honoble Precision (China) Mfg.

55. Intech Industries Shanghai Co., Ltd.

56. Jiangsu Innovo Precision Machinery

57. Jiangsu Jinhuan Fastener Co., Ltd.

58. Jiangsu Zhongweiyu Communication Equipment Co. Ltd.

59. Jiashan Steelfit Trading Co. Ltd.

60. Jiashan Zhongsheng Metal Products Co., Ltd.

61. Jiaxing Allywin Mfg. Co., Ltd.

62. Jiaxing Chinafar Standard

63. Jiaxing Sini Fastener Co., Ltd.

64. Jiaxing Jinhow Import & Export Co., Ltd.

65. Jiaxing Xinyue Standard Part Co. Ltd.

66. Jiaxing Yaoliang Import & Export Co. Ltd.

67. Jinan Banghe Industry & Trade Co., Ltd.

68. Kinfast Hardware (Shenzhen) Ltd.

69. King Socket Screw Company Ltd.

70. L&W Fasteners Company

71. Macropower Industrial Inc.

72. Mai Seng International Trading Co., Ltd.

73. MB Services Company

74. Midas Union Co., Ltd.

75. Nanjing Prosper Import & Export Corporation Ltd.

76. Nantong Runyou Metal Products

77. New Pole Power System Co. Ltd.

78. Ningbo Abc Fasteners Co., Ltd.

79. Ningbiao Bolts & Nuts Manufacturing Co.

80. Ningbo Beilun Milfast Metalworks Co. Ltd.

81. Ningbo Beilun Pingxin Hardware Co., Ltd.

82. Ningbo Dexin Fastener Co. Ltd.

83. Ningbo Dongxin High-Strength Nut Co., Ltd.

84. Ningbo Exact Fasteners Co., Ltd.

85. Ningbo Fastener Factory

86. Ningbo Fengya Imp. and Exp. Co. Ltd.

87. Ningbo Fourway Co., Ltd.

88. Ningbo Haishu Holy Hardware Import and Export Co. Ltd.

89. Ningbo Haishu Wit Import & Export Co. Ltd.

90. Ningbo Haishu Yixie Import & Export Co. Ltd.

91. Ningbo Jinding Fastening Piece Co., Ltd.

92. Ningbo MPF Manufacturing Co. Ltd.

93. Ningbo Panxiang Imp. & Exp., Co. Ltd.

94. Ningbo Seduno Imp. Exp. Co., Ltd.

95. Ningbo Qianjiu Instrument Case Factory

96. Ningbo Yili Import & Export Co., Ltd.

97. Ningbo Yinzhou Dongxiang Accuracy Hardware Co., Ltd.

98. Ningbo Yinzhou Foreign Trade Co., Ltd.

99. Ningbo Yinzhou Woafan Industry &Trade Co., Ltd.

100. Ningbo Zhenhai Beisuda Equipment Co.

101. Ningbo Zhenhai Jinhuan Fasteners

102. Ningbo Zhenghai Yongding Fastener Co., Ltd.

103. Ningbo Zhenhai Dingli Fastener Screw Co., Ltd.

104. Ningbo Zhongjiang High Strength Bolts Co. Ltd.

105. Ningbo Zhongjiang Petroleum Pipes & Machinery Co., Ltd.

106. Orient International Holding Shanghai Rongheng Intl Trading Co. Ltd.

107. Orient Rider Corporation Ltd.

108. Pol Shin Fastener (Zhejiang) Co.

109. Prosper Business and Industry Co., Ltd.

110. Qingdao Free Trade Zone Health Intl.

111. Qingdao Top Steel Industrial Co. Ltd.

112. Sampulse Industrial Co., Ltd.

113. Shaanxi Succeed Trading Co., Ltd.

114. Shanghai Autocraft Co., Ltd.

115. Shanghai Beitra Fasteners Co., Ltd.

116. Shanghai E-Heng Imp. & Exp. Co. Ltd.

117. Shanghai East Best Foreign Trade Co.

118. Shanghai East Best International Business Development Co., Ltd.

119. Shanghai Fortune International Co. Ltd.

120. Shanghai Furen International Trading

121. Shanghai Hunan Foreign Economic Co., Ltd.

122. Shanghai Jiabao Trade Development Co. Ltd.

123. Shanghai Nanshi Foreign Economic Co.

124. Shanghai Overseas International Trading Co. Ltd.

125. Shanghai Prime Machinery Co. Ltd.

126. Shanghai Printing & Dyeing and Knitting Mill.

127. Shanghai Printing & Packaging Machinery Corp

128. Shanghai Recky International Trading Co., Ltd.

129. Shanghai Sinotex United Corp. Ltd.

130. Shanghai Strong Hardware Co. Li

131. Shanghai Wisechain Fasteners Ltd.

132. Shenzhen Fenda Technology Co., Ltd.

133. Shenzhen Haozhenghao Technology Co.

134. Shijianzhuang Huitongxiang Li Trade

135. Soyoung Industrial Co., Ltd.

136. SRC Metal (Shanghai) Co., Ltd.

137. Suntec Industries Co., Ltd.

138. Suzhou Henry International Trading Co., Ltd.

139. T and C Fastener Co. Ltd.

140. T and L Industry Co. Ltd.

141. Taizhou Maixing Machinery Co.

142. Telsto Development Co., Ltd.

143. The Hoffman Group International

144. Tianjin Port Free Trade Zone

145. Tianjin Star International Trade Co., Ltd.

146. Tong Ming Entreprise Co., Ltd.

147. Tong Win International Co., Ltd.

148. Tri Steel Co., Ltd.

149. Wisechain Trading Limited

150. Wuxi Metec Metal Co. Ltd.

151. Xiamen Hua Min Imp. and Exp. Ltd.

152. Xiamen Rongxinda Industry Co., Ltd.

153. Xiamen Yuhui Import & Export Co., Ltd.

154. Yogendra International

155. Yuyao Hualun Imp. & Exp. Co., Ltd.

156. Zhangjiagang Ever Faith Industry Co.

157. Zhejiang Heirrmu Mechanical and Electrical Equipment Manufacturing Co Ltd.

158. Zhejiang Heiter Industries Co., Ltd.

159. Zhejiang Heiter Mfg & Trade Co. Ltd.

160. Zhejiang Jin Zeen Fasteners Co. Ltd.

161. Zhejiang Junyue Standard Part Co., Ltd.

162. Zhejiang Laibao Precision Technology Co. Ltd.

163. Zhejiang Metals & Minerals Imp & Exp Co. Ltd.

164. Zhejiang New Century Imp & Exp Co. Ltd.

165. Zhejiang New Oriental Fastener Co., Ltd.

166. Zhejiang Zhenglian Industry Development Co., Ltd.

167. Zhongsheng Metal Co., Ltd.

168. Zhoushan Zhengyuan Standard Parts Co., Ltd.

[FR Doc. 2018-10546 Filed 5-16-18; 8:45 am]

BILLING CODE 3510-DS-P